DEPARTMENT OF EDUCATION

Early Reading First Program; Notice Reopening the Deadline Date for Transmittal of Pre-Applications and Extending the Deadline Date for Transmittal of Full Applications for Fiscal Year (FY) 2008

Catalog of Federal Domestic Assistance (CFDA) Number: 84.359A/B.

SUMMARY: On December 28, 2007, we published in the Federal Register (72 FR 73790) a notice inviting applications (Application Notice) for the Early Reading First (ERF) FY 2008 grant competition. The deadline date for eligible applicants to transmit their pre-applications for funding under this competition was February 1, 2008, and the deadline date for full applications was April 18, 2008. We are reopening the pre-application phase of the ERF FY 2008 competition for all eligible applicants, including both local educational agencies (LEAs) and eligible non-LEAs, because the originally posted State lists of eligible LEAs did not include all LEAs that were eligible as of December 28, 2007, and included some LEAs that were ineligible as of that date. We are reopening the pre-application phase of the ERF FY 2008 competition for all eligible LEAs and for eligible entities located in communities served by those LEAs, and extending the full application phase for applicants invited to submit full applications. As a result of the changes in the pre-application and full application deadline dates for the FY 2008 ERF competition, we also are extending the intergovernmental review period required under Executive Order 12372. Applicants must refer to the Application Notice for all other requirements concerning this reopened competition.

Pre-Applications: The new deadline date for eligible applicants to submit pre-applications is:

Deadline for Transmittal of Pre-Applications: April 7, 2008.

Pre-applications for grants under this competition must be submitted electronically using the Grants.gov Apply site (Grants.gov). For information about how to submit your pre-application electronically, or by mail or hand delivery if you qualify for an exception to the electronic submission requirement, please refer to the Application Notice. The notice is available at the following Web site: www.Grants.gov.

We do not consider a pre-application that does not comply with the deadline requirements.

Individuals with disabilities who need an accommodation or auxiliary aid in connection with the application process should contact the person listed under FOR FURTHER INFORMATION CONTACT.

Note: Applicants that successfully submitted their complete pre-applications on or before the original deadline date of February 1, 2008 are not required to resubmit their applications. In addition, applicants that were not timely because they submitted their pre-applications between 4:30 p.m. and midnight on February 1, 2008 are not required to resubmit their applications. All other applicants must download, complete, and submit an entirely new application package through Grants.gov as specified in the Application Notice.

Full Applications: The new deadline date for the transmittal of full applications is:

Deadline for Transmittal of Full Application: June 10, 2008.

Intergovernmental Review: The new deadline date for Intergovernmental Review under Executive Order 12372 is:

Deadline for Intergovernmental Review: August 11, 2008.

SUPPLEMENTARY INFORMATION: We are reopening the pre-application phase of the ERF FY 2008 competition for all eligible applicants, including non-LEAs, because the originally posted State generated lists of eligible LEAs did not include all LEAs that were eligible as of December 28, 2007, and included some LEAs that were ineligible as of that date. We are extending the full application phase of the FY 2008 competition for a commensurate period for applicants we have invited, following the pre-application phase, to submit full applications. Eligibility determinations are made as of December 28, 2007.

Eligible LEAs. Eligible LEAs include all LEAs that were current recipients of a Reading First subgrant as of December 28, 2007, as well as all LEAs that were eligible for such a subgrant as of that date, but were not funded.

Ineligible LEAs. The originally posted eligible LEA lists included some LEAs that are not eligible. Any LEA that was not eligible for a Reading First subgrant in its State or through the Bureau of Indian Education (BIE) as of December 28, 2007 is not eligible to receive an ERF subgrant in this FY 2008 competition. Furthermore, any entity that is not located in a community served by an eligible LEA is not eligible to receive an ERF subgrant in this competition.

For the convenience of applicants, we have posted corrected lists of eligible LEAs by State on the ERF Web site at http://www.ed.gov/programs/earlyreading/eligibility.html.

Please note, however, that it is each applicant's own responsibility to verify with the Reading First office in its State or with the Bureau of Indian Education (BIE) the eligibility (as of December 28, 2007) of a particular LEA for a Reading First subgrant. A list of State and BIE contacts for this purpose is posted also at the ERF Web site at http://www.ed.gov/programs/earlyreading/eligibility.html.

Application Submission Information. Information concerning submission of pre-applications for grants under the ERF program (CFDA Number 84.359A) is described in section IV (Application and Submission Information) of the Application Notice, which is available at the following Web site: http://www.ed.gov/news/fedregister/announce/index.html.

Note: For all applicants submitting a new pre-application in accordance with this notice, please note that you must use the current pre-application package posted on Grants.gov. That is, Grants.gov will reject any submission from the earlier application package, which was available on Grants.gov through the original pre-application deadline of February 1, 2008.

Note: If you wish to exercise the Exception to Electronic Submission Requirements, you must submit no later than March 24, 2008 a statement to the Department requesting an exception to these requirements and explaining the grounds that prevent you from using the Internet to submit your pre-application.

FOR FURTHER INFORMATION CONTACT: Pilla Parker, U.S. Department of Education, 400 Maryland Avenue, SW., room 3C136, Washington, DC 20202-6132. Telephone: (202) 260-3710 or by e-mail: Pilla.Parker@ed.gov; or Rebecca Marek, U.S. Department of Education, 400 Maryland Avenue, SW., room 3C138, Washington, DC 20202-6132. Telephone: (202) 260-0968 or by e-mail: Rebecca.Marek@ed.gov.

If you use a telecommunications device for the deaf (TDD), you may call the Federal Relay Service (FRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 4, 2008.
Kerri L. Briggs,
Assistant Secretary for Elementary and Secondary Education.

[FR Doc. E8-4545 Filed 3-6-08; 8:45 am]

BILLING CODE 4000-01-P